DEPARTMENT OF COMMERCE

Census Bureau

Submission for OMB Review; Comment Request

The Department of Commerce will submit to the Office of Management and Budget (OMB) for clearance the following proposal for collection of information under the provisions of the Paperwork Reduction Act.

Agency: Census Bureau.

Title: Construction Progress Reporting Surveys.

OMB Control Number: 0607-0153.

Form Number(s): C-700, C-700(R), C-700(SL), C-700(F).

Type of Request: Extension of a currently approved collection.

Number of Respondents: 25,000.

Average Hours per Response: 11.67 minutes.

Burden Hours: 58,333.

Needs and Uses: The U.S. Census Bureau is requesting an extension of a currently approved collection for forms: C-700, for Private Construction Projects; C-700(R), for Multifamily Residential Projects; C-700(SL), for State and Local Governments Projects; and C-700(F), for Federal Government Projects.

These forms are used to conduct the Construction Progress Reporting Surveys (CPRS) which collect information on the dollar value of construction put in place on non-residential building projects under construction by private companies or individuals, private multifamily residential buildings, and building projects under construction by federal and state and local governments.

The Census Bureau uses the information collected on these forms to publish estimates of the monthly dollar value of construction put in place. These data are a Principal Federal Economic Indicator that is used extensively by the federal government in making policy decisions and is used by the Bureau of Economic Analysis (BEA) to estimate Gross Domestic Product (GDP), with construction spending (nonresidential fixed investment on structures and residential fixed investment) accounting for 6.9 percent of GDP in 2017. The private sector uses the statistics for market analysis and other research.

There are currently no planned content changes to the CPRS questionnaires. However, beginning with the September 2018 statistical period, we mailed redesigned forms, which were previously printed on a single legal page, and are now in booklet form. Additionally, the contact information is now requested on the front page of the booklet rather than on the back page, and the numbering scheme reflects this rearrangement of questions.

Affected Public: Businesses; Not-for-profit institutions; State, local or Tribal governments; Federal Government.

Frequency: Monthly.

Respondent's Obligation: Voluntary.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer, Commerce Department.

[FR Doc. 2018-26300 Filed 12-3-18; 8:45 am]

BILLING CODE 3510-07-P